DEPARTMENT OF AGRICULTURE

Food and Nutrition Service

Agency Information Collection Activities: OMB Generic Clearance for the Annual Survey of School Food Authorities

AGENCY: Food and Nutrition Service (FNS), U.S. Department of Agriculture (USDA).

ACTION: Notice.

SUMMARY: In accordance with the Paperwork Reduction Act of 1995, this notice invites the general public and other public agencies to comment on this proposed information collection. This data collection is based on the currently approved 2023 Pulse Survey: Operational Challenges in Child Nutrition Program, OMB Control No. 0584-0689, expiration date 12/31/2026. This revised collection will be renamed the OMB Generic Clearance for the Annual Survey of School Food Authorities and will be reclassified as a generic clearance to more accurately reflect the process under which FNS has submitted and OIRA has cleared revised annual School Food Authority (SFA) survey instruments. The studies encompassed under this information collection will collect data from SFAs administering the Child Nutrition Programs, including information on emerging and ongoing challenges, their impacts on operations and student participation, and strategies SFAs are undertaking to address challenges they face.

DATES: Written comments must be received on or before March 24, 2026.

ADDRESSES: Comments may be sent to: Conor McGovern, Food and Nutrition Service, U.S. Department of Agriculture, 1320 Braddock Pl., 5th Floor, Alexandria, VA 22314. Comments may also be submitted via email to Conor.McGovern@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Conor McGovern at Conor.McGovern@usda.gov or (703) 457-7740.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: OMB Generic Clearance for the Annual Survey of School Food Authorities.

Form Number: N/A.

OMB Number: 0584-0689.

Expiration Date: December 31, 2026.

Type of Request: Revision of a currently approved collection.

Abstract: FNS administers the Child Nutrition (CN) Programs in partnership with States, local SFAs, other program sponsors, and local program operators. Section 28(a) of the Richard B. Russell National School Lunch Act authorizes the U.S. Department of Agriculture Secretary to conduct annual national performance assessments of the school meal programs and requires States and local entities participating in the programs to cooperate with program research and evaluations.

This information collection request is for a revision of the currently approved collection. The FNS requests a generic clearance to collect annual data on emerging school food service operational challenges, including but not limited to food costs, procurement challenges, labor shortages, changes to nutrition standards, and/or related issues in SY 2026-2027, 2027-2028, and SY 2028-2029. Access to a timely and reliable source of data on these topics will allow FNS to provide the best possible support to SFAs facing continued food service operations challenges and enable FNS to respond more quickly and effectively to potential disruptions in the future.

To administer the survey each year, FNS will first contact state agencies administering the National School Lunch Program and School Breakfast Program to obtain current lists of SFA Directors or another appropriate point of contact (the OMB control number for the collection of contact information for sampling frames is 0584-0613, FNS Quick Response Surveys, expiration 06/30/2027). The list will be used to conduct a census. FNS will provide state agencies with a template email to send to SFA Directors in their respective States to provide information regarding the survey and express support for the data collection. FNS will then email the survey to respondents via a web-based survey platform such as Qualtrics. The survey instrument will take approximately 20 minutes to complete.

Survey administration will be similar to the methods used for the SFA Surveys on School Food Supply Chain Disruption and Student Participation in SY 2023-2024, 2024-2025, and 2025-2026 which were previously cleared under OMB control number 0584-0689, expiration date 12/31/2026. This proposed renewal more accurately reflects the use of the ICR to date by limiting data collection to SFAs and reclassifying it as a generic clearance rather than requesting annual changes through a change memorandum under the clearance process for the current information collection for SFA surveys.

Under the currently approved information collection, methods consisted of a web survey of all SFAs nationwide operating Child Nutrition Programs in schools during a given school year. The most recent collection for the 2024-2025 school year was distributed to 18,531 SFAs based on contact information collected from the 56 CN agencies that administer CN Programs at the state level in the 50 States, District of Columbia, American Samoa, Guam, the Northern Mariana Islands, Puerto Rico, and the U.S. Virgin Islands.

FNS is proposing to use a generic ICR for this data collection because we make small annual changes to the survey instrument each year to reflect lessons learned from previous surveys, as well as collect new information unique to the collection period. Under the current information collection, this has been handled through annual change memoranda, but the generic clearance process is more appropriate for handling these sorts of changes on an annual basis. Therefore, this generic clearance enables FNS to better meet the goals of Executive Order 14058, Transforming Federal Customer Experience and Service Delivery to Rebuild Trust in Government, by allowing FNS to expeditiously gather information from program operators to improve and refine customer experience and service delivery.

Affected Public: State/local governments and private, not-for-profit businesses: Respondent groups identified include: (1) State agencies administering the National School Lunch Program and School Breakfast Program, and (2) SFA Directors from all 50 States, 5 territories, the District of Columbia, and the Department of Defense.

Estimated Number of Respondents: The total estimated number of respondents per year is 18,692. This includes (1) 56 State Agency Directors; and (2) 18,636 SFA Directors. Consistent with past approaches, new survey questions will engage nine pretest participants representative of SFA Directors (government and private, not-for-profit business).

Estimated Number of Responses per Respondent: State Agency Director respondents will be asked to provide a current list of SFAs operating Child Nutrition Programs, as needed, and distribute a survey support email to these respondent groups annually (three times total, in SY 2025-2026, SY 2027-2028, and SY 2028-2029). SFAs will be asked to complete the web survey once per year.

In the event of non-response, survey respondents will receive follow-up email correspondence and will be provided contact information for FNS survey support as needed. Based on the prior three years of data collection, FNS estimates that about 65 percent of Directors of private SFAs will complete the survey and 72 percent of Directors of public SFAs will complete the survey each year. Using the most recent data from SY 2024-2025 where 84 percent of SFAs were public, FNS estimates that 11,271 of 15,654 public SFAs will complete the survey and 1,938 of 2,982 private SFAs will complete the survey.

Estimated Total Annual Responses: 37,328, including non-respondents. We expect that 26,474 of these will be responsive.

Estimated Time per Response: The average time for all responses is about 9.6 minutes (0.16 hours). Response time ranges from a little over one minute (0.02 hours) for non-responsive contacts to 20 minutes (0.33 hours) to respond to the full survey instrument.

Estimated Total Annual Burden on Respondents: 4,406.3 hours. See the table below for estimated total annual burden for each type of respondent.

BILLING CODE 3410-30-P

Patrick A. Penn,
Deputy Under Secretary, Food and Nutrition Consumer Service, U.S. Department of Agriculture.

[FR Doc. 2026-01249 Filed 1-22-26; 8:45 am]

BILLING CODE 3410-30-C